DEPARTMENT OF HOMELAND SECURITY

Coast Guard

33 CFR Part 117

[Docket No. USCG-2016-0229]

Drawbridge Operation Regulation; Lake Washington Ship Canal, Seattle, WA

AGENCY: Coast Guard, DHS.

ACTION: Notice of deviation from drawbridge regulation.

SUMMARY: The Coast Guard has issued a temporary deviation from the operating schedule that governs the Fremont Bridge, mile 2.6, and the University Bridge, mile 4.3, both crossing the Lake Washington Ship Canal at Seattle, WA. The deviation is necessary to accommodate the Brooks Trailhead 10K & 15K foot race event. This deviation allows the bridges to remain in the closed-to-navigation position to allow for the safe movement of event participants.

DATES: This deviation is effective from 8 a.m. to 10 a.m. on May 22, 2016.

ADDRESSES: The docket for this deviation, [USCG-2016-0229] is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: The Seattle Department of Transportation requested a temporary deviation from the operating schedule for the Fremont Bridge, mile 2.6, and the University Bridge, mile 4.3, both crossing the Lake Washington Ship Canal at Seattle, WA, to facilitate safe passage of participants in the Brooks Trailhead 10K & 15K foot race event. The Fremont Bridge provides a vertical clearance of 14 feet (31 feet of vertical clearance for the center 36 horizontal feet) in the closed-to-navigation position. The University Bridge provides a vertical clearance of 30 feet in the closed-to-navigation position. Both bridge clearances are referenced to the mean water elevation of Lake Washington. The normal operating schedule for both the Fremont Bridge and the University Bridge is in 33 CFR 117.1051. During this deviation period, the Fremont Bridge, mile 2.6, need not open to marine vessels from 8:15 a.m. to 10 a.m. on May 22, 2016. The University Bridge, mile 4.3, need not open to marine vessel from 8 a.m. to 8:30 a.m. on May 22, 2016. Waterway usage on the Lake Washington Ship Canal ranges from commercial tug and barge to small pleasure craft.

Vessels able to pass through the bridges in the closed-to-navigation positions may do so at any time. Both bridges will be able to open for emergencies, and there is no immediate alternate route for vessels to pass. The Coast Guard will also inform the users of the waterway through our Local and Broadcast Notices to Mariners of the change in operating schedule for the bridge so that vessels can arrange their transits to minimize any impact caused by the temporary deviation.

In accordance with 33 CFR 117.35(e), both drawbridges must return to their regular operating schedule immediately at the end of the designated time period. This deviation from the operating regulations is authorized under 33 CFR 117.35.

Dated: March 23, 2016.
Steven M. Fischer,
Bridge Administrator, Thirteenth Coast Guard District.

[FR Doc. 2016-07010 Filed 3-28-16; 8:45 am]

BILLING CODE 9110-04-P